DEPARTMENT OF LABOR

Occupational Safety and Health Administration

[Docket No. ICR-1218-0093-(2001)]

Construction Standards on Posting Emergency Telephone Numbers and Floor Load Limits; Extension of the Office of Management of Budget's (OMB) Approval of Information-Collection (Paperwork) Requirements

AGENCY: Occupational Safety and Health Administration (OSHA), Labor.

ACTION: Notice of an opportunity for public comment.

SUMMARY: OSHA solicits public comment concerning its request to increase the existing burden-hour estimates for, and to extend OMB approval of, the collection-of-information requirements specified by the Construction Standards on Posting Emergency Telephone Numbers and Floor Load Limits (paragraph (f) of § 1926.50 and paragraph (a)(2) of § 1926.250, respectively). Under § 1926.50(f), employers must post emergency telephone numbers at the worksite if the 911 emergency telephone service is not available, while § 1926.250(a)(2) requires employers to post the maximum safe load limits of floors located in storage areas inside buildings or other structures, unless the floors are on grade.

DATES: Submit written comments on or before September 10, 2001.

ADDRESSES: Submit written comments to the Docket Office, Docket No. ICR-1218-0093(2001), OSHA, U.S. Department of Labor, Room N-2625, 200 Constitution Avenue, NW., Washington, DC 20210; telephone (202) 693-2350. Commenters may transmit written comments of 10 pages or less by facsimile to (202) 693-1648.

FOR FURTHER INFORMATION CONTACT: Kathleen M. Martinez, Directorate of Policy, Office of Regulatory Analysis, OSHA, U.S. Department of Labor, Room N-3609, 200 Constitution Avenue, NW., Washington, DC 20210; telephone (202) 693-1953. A copy of the Agency's Information-Collection Request (ICR) supporting the need for the information collections specified by these standards are available for inspection and copying in the Docket Office, or by requesting a copy from Todd Owen at (202) 693-2444. For electronic copies of the ICR contact OSHA on the Internet at http://www.osha.gov/comp-links.html and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct.

Two Construction standards, “Medical Services and First Aid” (§ 1926.50) and “General Requirements for Storage” (§ 1926.250), contain posting provisions. Paragraph (f) of § 1926.50 requires employers to post emergency telephone numbers for physicians, hospitals, or ambulances at the worksite if the 911 emergency telephone service is not available; in the event an employee has a serious injury at the worksite, this posting requirement expedites emergency medical treatment of the employee. Paragraph (a)(2) of § 1926.250 specifies that employers must post the maximum safe load limits of floors located in storage areas inside buildings or other structures, unless the floors are on grade. This provision prohibits employers from overloading floors in areas used to store material and equipment in multi-story units that are under construction, thereby preventing the floors from collapsing and seriously injuring employees.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA is requesting a net increase in the total burden-hour estimate for, as well as an extension of OMB approval of, the collection-of-information requirements specified by paragraph (f) of § 1926.50 and paragraph (a)(2) of § 1926.250. Specifically, the Agency is requesting to increase the current total burden-hour estimate from 5,555 hours to 6,194 hours, a total increase of 639 hours. The following table provides a description of this increase.

Information collection requirement | Current burden hours | Requested burden hours | Adjustment (hours) | Explanation of adjustment
§ 1926.50(f) | 2,667 | 3,667 | 1,000 | Previously underestimated the number of residential-unit sites covered by this provision (i.e., the correct number is 900,000 units instead of 600,000 units).
§ 1926.250(a)(2) | 2,888 | 2,527 | (361) | Based on information regarding new construction of multi-story units contained in the most recent edition of the F.W. Dodge Construction Report
Totals | 5,555 | 6,194 | 639

The Agency will summarize the comments submitted in response to this notice. OSHA will then include this summary in its request to OMB to decrease the existing burden-hour estimates for, and to extend approval of, these information-collection requirements.

Type of Review: Extension of currently approved information-collection requirements.

Title: Construction Standards on the Posting of Emergency Telephone Numbers and Floor Load Limits.

OMB Number: 1218-0093.

Affected Public: Business or other for-profit; not-for-profit institutions; Federal government; State, local, or tribal governments.

Number of Respondents: 140,325.¹

¹ This figure includes the 110,000 sites covered by § 1926.50(f) and the 30,325 multi-story units covered by § 1926.250(a)(2). Although some overlap may occur between these sites and units, OSHA cannot readily differentiate between employers covered by these two provisions.

Frequency of Response: On occasion.

Average Time per Response: Varies from 2 minutes (.03 hour) to post emergency telephone numbers to 5 minutes (.08 hour) to post load limits for floors.

Estimated Total Burden Hours: 6,194.

Estimated Cost (Operation and Maintenance): $112,762.

IV. Authority and Signature

R. Davis Layne, Acting Assistant Secretary of Labor of Occupational Safety and Health, directed the preparation of this notice. The authority for this notice is the Paperwork Reduction Act of 1995 (44 U.S.C. 3506) and Secretary of Labor's Order No. 3-2000 (65 FR 50017).

R. Davis Layne,
Acting Assistant Secretary of Labor.

[FR Doc. 01-17220 Filed 7-9-01; 8:45 am]

BILLING CODE 4510-26-M